DEPARTMENT OF THE TREASURY

Internal Revenue Service

26 CFR Part 1

[REG-149519-03]

RIN 1545-BC63

Section 707 Regarding Disguised Sales, Generally

Correction

In proposed rule document 04-26112 beginning on page 68838 in the issue of Friday, November 26, 2004 make the following corrections:

§1.707-7 [Corrected]

1. On page 68849, in § 1.707-7(l), under Example 2. (ii), in the second column, in the fifth line from the top, “transfer- $50x” should read “transfer− $50x”.

2. On the same page, in the same section, in the same column, under Example 3. (iii), in the 12th line, “$1,000x- -$700x” should read “$1,000x −$700x”.

3. On the same page, in the same section, in the same column, under the same example, in the 14th line, “$1,000x- $200x” should read “$1,000x− $200x”.

4. On the same page, in the same section, in the same column, under the same example, in the sixth line from the bottom, “Property- $1,000x” should read “Property−$1,000x”.

[FR Doc. C4-26112 Filed 12-23-04; 8:45 am]

BILLING CODE 1505-01-D